DEPARTMENT OF AGRICULTURE

Food Safety and Inspection Service

[Docket No. 04-010N]

Notice of Request for a Revision of a Currently Approved Information Collection (Marking, Labeling, and Packaging)

AGENCY: Food Safety and Inspection Service, USDA.

ACTION: Notice and request for comments.

SUMMARY: In accordance with the Paperwork Reduction Act of 1995 and the Office of Management and Budget (OMB) regulations, this notice announces the Food Safety and Inspection Service's (FSIS) intention to request a revision to a currently approved information collection regarding Marking, Labeling, and Packaging.

DATES: Comments on this notice must be received on or before August 27, 2004.

ADDRESSES: FSIS invites interested persons to submit comments on this Information Collection request. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

• Federal eRulemaking Portal: Go to http://www.regulations.gov. Follow the online instructions at that site for submitting comments.

All submissions received must include the Agency name and docket number 04-010N.

All comments submitted in response to this notice, as well as research and background information used by FSIS in developing this document, will be available for public inspection in the FSIS Docket Room at the address listed above between 8:30 a.m. and 4:30 p.m., Monday through Friday, except Federal holidays. The comments also will be posted on the Agency's Web site at http://www.fsis.usda.gov/OPPDE/rdad/FRDockets.htm.

FOR FURTHER INFORMATION CONTACT: John O'Connell, Paperwork Reduction Act Coordinator, Food Safety and Inspection Service, USDA, 300 12th Street, SW., Room 112, Washington, DC 20250-3700, (202) 720-0345.

SUPPLEMENTARY INFORMATION: Title: Marking, Labeling, and Packaging.

OMB Number: 0583-0092.

Expiration Date of Approval: 9/30/2004.

Type of Request: Revision of a currently approved information collection.

Abstract: FSIS has been delegated the authority to exercise the functions of the Secretary as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by ensuring that meat, poultry, and egg products are safe, wholesome, unadulterated, and properly labeled and packaged.

FSIS is requesting a revision to the information collection addressing paperwork and recordkeeping requirements regarding marking, labeling, and packaging because of an anticipated decrease of information collection burden hours due to a decrease in the submission of new labels. To ensure that meat, poultry, and egg products are accurately labeled, FSIS approves meat, poultry, and egg products labeling. Meat, poultry, and egg products establishments and plants must develop product labels (9 CFR 317.4, 381.132 & 590.411) in accordance with FSIS regulations. Each establishment must maintain a copy of all labeling used, along with all records of product formulation and processing procedures.

Approved labeling to which minor changes are made, such as holiday season designs, addition or deletion of coupons, UPC production codes, or recipe suggestions; newly assigned or revised establishment numbers; changes in the arrangement or language of directions for opening containers or serving the product; or the substitution of abbreviations for words or vice versa, do not need an additional FSIS approval (§§ 317.5 & 381.133).

FSIS requires establishments to have a written guaranty that packaging materials are safe for intended use within the meaning of section 409 of the Federal Food, Drug, and Cosmetic Act, as amended (§§ 317.24 & 381.144).

To control the manufacture of marking devices bearing official marks, FSIS requires official meat and poultry establishments and the manufacturers of such marking devices to submit a form to the Agency. The establishment completes the first part of the form requesting that certain brands or other devices be manufactured. The manufacturer of the brands then provides its business name and address, and serial numbers of brands and devices. Such certification is necessary to help prevent the manufacture and use of counterfeit marks of inspection (§§ 312.1 & 381.96).

Poultry establishments producing meat using advanced meat/bone separation machinery and recovery systems must have adequate controls in place, including the maintenance of proper recordkeeping, to ensure that such product complies with the Agency's definition and criteria for “meat” (§§ 381.172 & 381.173).

Estimate of Burden: The public reporting burden for this collection of information is estimated to average .03 hours per response.

Respondents: Official establishments and plants; foreign establishments; device manufacturer.

Estimated Number of Respondents: 16,720.

Estimated Number of Responses per Respondent: 202.

Estimated Total Annual Burden on Respondents: 114,558. Copies of this information collection assessment can be obtained from John O'Connell, Paperwork Reduction Act Coordinator, Food Safety and Inspection Service, USDA, 300 12th Street, SW., Room 112, Washington, DC 20250-3700, (202) 720-5627, (202) 720-0345.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; ways to minimize the burden of the collection of information on those who are to respond, including through the use of appropriate automated, electronic, mechanical, or other technological collection techniques, or other forms of information technology. Comments may be sent to both John O'Connell, Paperwork Reduction Act Coordinator, at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to ensure that the public and in particular minorities, women, and persons with disabilities, are aware of this notice, FSIS will announce it on-line through the FSIS Web page located at http://www.fsis.usda.gov.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included.

The update also is available on the FSIS Web page. Through Listserv and the Web page, FSIS is able to provide information to a much broader, more diverse audience.

Done at Washington, DC, on June 23, 2004.
Barbara J. Masters,
Acting Administrator.

[FR Doc. 04-14582 Filed 6-25-04; 8:45 am]

BILLING CODE 3410-DM-P